DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | # Depth in feet above ground * Elevation in feet (NGVD) + Elevation in feet (NAVD) Modified
Town of Brockton, Montana
Docket No.: FEMA-B-7464
Montana | Town of Brockton | Missouri River | Approximately 12.7 miles downstream of County Road Bridge | +1,930
|  |  | Approximately 13.0 miles downstream of County Road Bridge | +1,931
# Depth in feet above ground.
* National Geodetic Vertical Datum.
+ North American Vertical Datum.
ADDRESSES
Town of Brockton
Maps available for inspection at: City Office, 716 B Avenue, Brockton, Montana.
Town of Culbertson, Montana
Docket No.: FEMA-B-7464
Montana | Town of Culbertson | Missouri River | Approximately 7.76 miles downstream of confluence of Big Muddy Creek | +1,910
|  |  | Approximately 7.0 miles downstream of confluence of Big Muddy Creek | +1,910
# Depth in feet above ground.
* National Geodetic Vertical Datum.
+ North American Vertical Datum.
ADDRESSES
Town of Culbertson
Maps available for inspection at: Town Hall, 210 Broadway, Culbertson, Montana.
McCone County and Unincorporated Areas, Montana
Docket No.: FEMA-B-7464
Montana | McCone County (Unincorporated Areas) | Missouri River | Approximately 20 miles downstream of State Route 13 | +1,956
|  |  | Approximately 26.9 miles upstream of confluence of Little Porcupine Creek | +2,038
# Depth in feet above ground.
* National Geodetic Vertical Datum.
+ North American Vertical Datum.
ADDRESSES
McCone County (Unincorporated Areas)
Maps available for inspection at: County Courthouse, 1004 C Avenue, Circle, Montana.
Town of Medicine Lake, Montana
Docket No.: FEMA-B-7464
Montana | Town of Medicine Lake | Big Muddy Creek | Approximately 1,000 feet south of West Lake Road | +1,944
|  |  | Approximately 2,500 feet north of West Lake Road | +1,948
# Depth in feet above ground.
* National Geodetic Vertical Datum.
+ North American Vertical Datum.
ADDRESSES
Town of Medicine Lake
Maps are available for inspection at 103 E. Hamilton St., Sheridan, Montana 59749.
City of Nashua, Montana
Docket No.: FEMA-B-7464
Montana | City of Nashua | Porcupine Creek | Approximately 0.41 miles downstream of U.S. Highway 2 | +2,058
|  |  | Approximately 0.78 miles upstream of U.S. Highway 2 | +2,068
# Depth in feet above ground.
* National Geodetic Vertical Datum.
+ North American Vertical Datum.
ADDRESSES
City of Nashua
Maps available for inspection at: Civic Center, 805 Front Street, Nashua, Montana.
City of Poplar, Montana
Docket No.: FEMA-B-7464
Montana | City of Poplar | Poplar River | Approximately 0.23 miles upstream of U.S. Highway 2 | +1,966
|  |  | Approximately 0.27 miles upstream of U.S. Highway 2 | +1,966
# Depth in feet above ground.
* National Geodetic Vertical Datum.
+ North American Vertical Datum.
ADDRESSES
City of Poplar
Maps available for inspection at: City Hall, 406 2nd Avenue West, Poplar, Montana.
City of Wolf Point, Montana
Docket No.: FEMA-B-7464
Montana | City of Wolf Point | Missouri River | Static flooding along 6th Avenue S. from Helena Street south to Idaho Street | +1,985
# Depth in feet above ground.
* National Geodetic Vertical Datum.
+ North American Vertical Datum.
ADDRESSES
City of Wolf Point
Maps available for inspection at: City Office, 201 4th Avenue South, Wolf Point, Montana.

Flooding source(s) | Location of referenced elevation | * Elevation in feet (NGVD) + Elevated in feet (NAVD) # Depth in feet above ground Modified | Communities affected
Boone County, Kentucky and Incorporated Areas
Docket No.: FEMA-B-7468
Ohio River | At confluence of Dry Creek | +495 | Boone County (Unincorporated Areas).
| At confluence of Big Bone Creek | +478
# Depth in feet above ground.
* National Geodetic Vertical Datum.
+ National American Vertical Datum.
ADDRESSES
Boone County (Unincorporated Areas)
Maps are available for inspection at the Boone County Planning Commission, Boone County Administration Building, 3rd Floor, 2950 Washington Street, Burlington, KY 41005.
De Soto County, Mississippi and Incorporated Areas
Docket No.: FEMA-B-7459
Arkabutla Reservoir | Flood pool | +245 | De Soto County (Unincorporated Areas).
Bean Patch Creek | At confluence with Camp Creek At Pleasant Hill Road At College Road 200 feet downstream of Getwell Road | +273 +302 +328 +372 | De Soto County (Unincorporated Areas), City of Southaven.
Bean Patch Creek Tributary 1 | At confluence with Bean Patch Creek 2444 feet upstream of Sandy Betts Road | +282 +331 | De Soto County (Unincorporated Areas).
Bean Patch Creek Tributary 2 | At confluence with Bean Patch Creek 78 feet upstream of Itasca Drive | +296 +347 | De Soto County (Unincorporated Areas).
Bean Patch Creek Tributary 3 | At confluence with Bean Patch Creek 1467 feet upstream of College Road | +303 +337 | De Soto County (Unincorporated Areas).
Byhalia Creek | At confluence with Pigeon Roost Creek 2638 feet upstream of Myers Road | +275 +298 | De Soto County (Unincorporated Areas).
Camp Creek | At confluence with Coldwater River At College Road At Goodman Road At Germantown Road At Montrose Drive 1790 feet upstream of Alexander Road | +256 +299 +331 +346 +361 +372 | De Soto County (Unincorporated Areas) City of Olive Branch.
Camp Creek Tributary 1 | At confluence with Camp Creek 180 feet upstream of Ross Road | +273 +317 | De Soto County (Unincorporated Areas).
Camp Creek Tributary 2 | At confluence with Camp Creek 170 feet upstream of Dunn Lane | +292 +348 | De Soto County (Unincorporated Areas).
Cane Creek Tributary 1 | At confluence with Arkabutla Reservoir 2100 feet upstream of Robertson Gin Road | +245 +251 | De Soto County (Unincorporated Areas).
Cane Creek Tributary 1.1 | At confluence with Cane Creek Tributary 1 4300 feet upstream of confluence with Cane Creek Tributary 1 | +245 +245 | De Soto County (Unincorporated Areas).
Coldwater River | 16200 feet downstream of Arkabutla Dam 3318 feet downstream of Arkabutla Dam 26735 feet downstream of Holly Springs Road 2010 feet upstream of confluence with Coldwater River Tributary 8 | +191 +195 +245 +301 | De Soto County (Unincorporated Areas).
Coldwater River Tributary 5 | At confluence with Coldwater River 2390 feet upstream of Bethel Road | +279 +299 | De Soto County (Unincorporated Areas).
Coldwater River Tributary 6 | At confluence with Coldwater River 160 feet downstream of Red Banks Road | +283 +308 | De Soto County (Unincorporated Areas).
Coldwater River Tributary 7 | At confluence with Coldwater River 13233 feet upstream of Center Hill Road | +298 +365 | De Soto County (Unincorporated Areas).
Coldwater River Tributary 7.1 | At confluence with Coldwater River Tributary 7 2515 feet upstream of Center Hill Road | +298 +341 | De Soto County (Unincorporated Areas).
Coldwater River Tributary 8 | At confluence with Coldwater River 2038 feet upstream of Center Hill Road | +300 +365 | De Soto County (Unincorporated Areas).
Coldwater River Tributary 8.1 | At confluence with Coldwater River Tributary 8 5004 feet upstream of confluence with Coldwater River Tributary 8 | +315, +368 | De Soto County (Unincorporated Areas).
Cow Pen Creek | At Goodman Road | +261 | City of Horn Lake
| At Nail Road | +274
Dry Creek | At confluence with Coldwater River 8348 feet upstream of Byhalia Road | +271 +303 | De Soto County (Unincorporated Areas).
Horn Lake Creek Tributary 1 | 790 feet upstream of Goodman Road 407 feet upstream of Nail Road | +264 +292 | City of Horn Lake.
Hurricane Creek | 1535 feet upstream of Odom Road 423 feet upstream of Bridgemore Drive | +265 +346 | De Soto County (Unincorporated Areas), City of Hernando.
Hurricane Creek Tributary 2 | 1022 feet downstream of Horn Lake Road 12800 feet upstream of Horn Lake Road | +245 +275 | De Soto County Unincorporated Areas), City of Hernando.
Hurricane Creek Tributary 3.1 | 1079 feet downstream of Nesbit Road 740 feet downstream of Highway 51 | +262 +300 | De Soto County (Unincorporated Areas), City of Hernando, City of Horn Lake, City of Southaven.
Hurricane Creek Tributary 3.1.1 | At confluence with Hurricane Creek Tributary 3.1 600 feet upstream of Starlanding Road | +262 +297 | De Soto County (Unincorporated Areas).
Hurricane Creek Tributary 3.1.2 | At confluence with Hurricane Creek Tributary 3.1 255 feet downstream of Highway 51 | +291 +301 | De Soto County (Unincorporated Areas), City of Southaven.
Hurricane Creek Tributary 4 | At confluence with Hurricane Creek 850 feet downstream of Harrow Cove | +266 +329 | De Soto County (Unincorporated Areas), City of Hernando.
Hurricane Creek Tributary 5 | At confluence with Hurricane Creek 4236 feet upstream of Pleasant Hill Road | +268 +310 | De Soto County (Unincorporated Areas), City of Hernando.
Hurricane Creek Tributary 6 | At confluence with Hurricane Creek 90 feet downstream of Clubhouse Drive | +273 +316 | De Soto County (Unincorporated Areas), City of Hernando.
Hurricane Creek Tributary 7 | At confluence with Hurricane Creek 423 feet upstream of Starlanding Road | +284 +339 | De Soto County (Unincorporated Areas), City of Southaven.
Hurricane Creek Tributary 7.1 | At confluence with Hurricane Creek Tributary 7 760 feet upstream of Starlanding Road | +294 +354 | De Soto County (Unincorporated Areas), City of Southaven.
Hurricane Creek Tributary 8 | At confluence with Hurricane Creek 940 feet upstream of Getwell Road | +295 +324 | De Soto County (Unincorporated Areas).
Jackson Creek | 4620 feet upstream of confluence with Lake Cormorant Bayou 712 feet upstream of confluence with Jackson Creek Tributary 1 | +200 +201 | De Soto County (Unincorporated Areas).
Jackson Creek Tributary 1 | At confluence with Jackson Creek 4665 feet upstream of Wilson Mills Road | +201 +208 | De Soto County (Unincorporated Areas).
Johnson Creek | At confluence with Lake Cormorant Bayou 3645 feet upstream of Church Road | +208 +249 | De Soto County (Unincorporated Areas), City of Horn Lake, Village of Memphis.
Johnson Creek Tributary 1 | At confluence with Johnson Creek 1810 feet upstream of Cheatham Road | +208 +208 | De Soto County (Unincorporated Areas), Village of Memphis.
Johnson Creek Tributary 2 | At confluence with Johnson Creek 300 feet upstream of Starlanding Road | +210 +227 | De Soto County (Unincorporated Areas), Village of Memphis.
Johnson Creek Tributary 3 | At confluence with Johnson Creek 1490 feet downstream of Poplar Corner Road | +212 +244 | De Soto County (Unincorporated Areas), Village of Memphis.
Johnson Creek Tributary 4 | At confluence with Johnson Creek 4171 feet upstream of Starlanding Road | +215 +231 | De Soto County (Unincorporated Areas), Village of Memphis.
Johnson Creek Tributary 5 | At confluence with Johnson Creek 35 feet upstream of Fogg Road | +226 +269 | De Soto County (Unincorporated Areas).
Johnson Creek Tributary 6 | At confluence with Johnson Creek 20 feet upstream of Fogg Road | +235 +256 | De Soto County (Unincorporated Areas).
Lake Cormorant Bayou | At Green River Road 500 feet downstream of confluence with Johnson Creek | +200 +208 | De Soto County (Unincorporated Areas).
Lateral A | At confluence with Horn Lake Creek 2506 feet upstream of Goodman Road | +243 +276 | De Soto County (Unincorporated Areas), City of Horn Lake, City of Southaven.
Lateral A Tributary 1 | At confluence with Lateral A 148 feet downstream of Horn Lake Road | +246 +259 | City of Horn Lake.
Licks Creek | At confluence with Camp Creek At U.S. Highway 78 At Lancaster Drive 7700 feet upstream of Hacks Cross Road | +306 +334 +358 +388 | De Soto County (Unincorporated Areas), City of Olive Branch.
Mussacuna Creek | 4630 feet downstream of Highway 51 1480 feet upstream of Highway 51 | +280 +307 | De Soto County (Unincorporated Areas), City of Hernando.
Nolehoe Creek | At confluence with Camp Creek At Goodman Road | +308 +348 | City of Olive Branch, City of Southaven.
Norfolk Bayou | At confluence with Johnson Creek 175 feet downstream of Highway 161 | +208 +208 | De Soto County (Unincorporated Areas).
Pigeon Roost Creek | At confluence with Coldwater River 1550 feet downstream of Ingrams Mill Road | +267 +277 | De Soto County (Unincorporated Areas).
Red Banks Creek | 4330 feet upstream of Red Banks Road 13140 feet upstream of Red Banks Road | +299 +312 | De Soto County (Unincorporated Areas).
Short Creek | At confluence with Coldwater River 9228 feet upstream of Byhalia Road | +267 +331 | De Soto County (Unincorporated Areas).
Short Creek Tributary 1 | At confluence with Short Creek 3636 feet upstream of Byhalia Road | +271 +297 | De Soto County (Unincorporated Areas).
Short Fork Creek | At confluence with Coldwater River 2953 feet upstream of Jaybird Road | +255 +309 | De Soto County (Unincorporated Areas), City of Hernando.
Short Fork Creek Tributary 1 | At confluence with Short Fork Creek 1731 feet upstream of Byhalia Road | +265 +341 | De Soto County (Unincorporated Areas).
Short Fork Creek Tributary 2 | At confluence with Short Fork Creek 5387 feet upstream of Brights Road | +278 +325 | De Soto County (Unincorporated Areas).
Short Fork Creek Tributary 3 | At confluence with Short Fork Creek 2594 feet upstream of confluence with Short Fork Creek | +296 +304 | De Soto County (Unincorporated Areas).
Turkey Creek | At confluence with Camp Creek 758 feet upstream of Woolsly Road | +287 +351 | De Soto County (Unincorporated Areas).
Whites Creek | 3740 feet upstream of confluence with Lake Cormorant Bayou 7410 feet upstream of Wetonga Lane | +199 +234 | De Soto County (Unincorporated Areas).
Whites Creek Tributary 1 | At confluence with Whites Creek 2117 feet upstream of confluence with Whites Creek | +224 +233 | De Soto County (Unincorporated Areas).
# Depth in feet above ground.
* National Geodetic Vertical Datum.
+ North American Vertical Datum.
ADDRESSES
Unincorporated Areas of De Soto County
Maps are available for inspection at 365 Losher Street, Suite 310, Hernando, MS 38632.
City of Hernando
Maps are available for inspection at 475 W. Commerce Street, Hernando, MS 38632.
City of Horn Lake
Maps are available for inspection at 3101 Goodman Road, Horn Lake, MS 38637.
City of Olive Branch
Maps are available for inspection at 9189 Pigeon Root, Olive Branch, MS 38654.
City of Southaven
Maps are available for inspection at 8710 Northwest Drive, Southaven, MS 38671.
Village of Memphis
Maps are available for inspection at P.O. Box 35, Walls, MS 38630.
Richland County, Montana and Incorporated Areas
Docket No.: FEMA-B-7464
Lone Tree Creek | Approximately 0.47 miles downstream of Country Road 351 At 22nd Avenue Northwest | +1,908 +1,969 | Richland County (Unincorporated Areas), City of Sidney.
Missouri River | Approximately 8.14 miles downstream of confluence with Big Muddy Creek Approximately 11 miles upstream of confluence with Wolf Creek | +1,910 +1,995 | Richland County (Unincorporated Areas).
# Depth in feet above ground.
* National Geodetic Vertical Datum.
+ North American Vertical Datum.
ADDRESSES
Richland County (Unincorporated Areas)
Maps available for inspection at: The County Courthouse, 201 West Main, Sidney, Montana.
City of Sidney
Maps are available for inspection at: City Hall, 115 2nd Street, SE., Sidney, Montana.

(Catalog of Federal Domestic Assistance No. 83.100, “Flood Insurance.”)

Dated: December 11, 2006.
David I. Maurstad,
Director, Mitigation Division, Federal Emergency Management Agency, Department of Homeland Security.

[FR Doc. E6-21574 Filed 12-18-06; 8:45 am]

BILLING CODE 9110-12-P